DEPARTMENT OF COMMERCE

International Trade Administration

[A-533-823]

Silicomanganese From India: Notice of Initiation and Preliminary Results of Antidumping Duty Changed Circumstances Review

AGENCY: Enforcement and Compliance, International Trade Administration, Department of Commerce.

SUMMARY: In response to request for a changed circumstances review (CCR), the U.S. Department of Commerce (Commerce) is initiating a CCR of the antidumping duty (AD) order on silicomanganese from India. Additionally, Commerce preliminary determines that NAVA Limited (NAVA) is the successor-in-interest to Nava Bharat Ventures Limited (NBVL). Interested parties are invited to comment on these preliminary results.

DATES: Applicable October 21, 2022.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On May 23, 2002, Commerce published the AD order on silicomanganese from India.¹ On September 1, 2022, NAVA, an Indian producer and exporter of subject merchandise, requested that Commerce conduct an expedited CCR of the Order to determine that NAVA is the successor-in-interest to NBVL, and publish the preliminary results of the review simultaneously with the initiation of the CCR.² In its submission, NAVA addressed the basic factors Commerce analyzes with respect to successor-in-interest determinations in the AD context and provided supporting documentation.³ No interested parties filed comments opposing the CCR request.

¹ See Notice of Amended Final Determination of Sales at Less than Fair Value and Antidumping Duty Orders: Silicomanganese from India, Kazakhstan, and Venezuela, 67 FR 36149 (May 23, 2002) (Order).

² See NAVA's Letter, “Silicomanganese from India: NAVA Limited request for Successor-in-Interest CCR and Simultaneous Affirmative Preliminary Determination,” dated September 1, 2022 (NAVA's CCR Request).

³ Id.

Scope of the Order

The merchandise covered by the Order is all forms, sizes, and compositions of silicomanganese, except low-carbon silicomanganese, including silicomanganese briquettes, fines and slag. Silicomanganese is a ferroalloy composed principally of manganese, silicon, and iron, and normally contains much smaller proportions of minor elements, such as carbon, phosphorous and sulfur. Silicomanganese is sometimes referred to as ferrosilicon manganese. Silicomanganese is used primarily in steel production as a source of both silicon and manganese. Silicomanganese generally contains by weight not less than 4 percent iron, more than 30 percent manganese, more than 8 percent silicon and not more than 3 percent phosphorous. Silicomanganese is properly classifiable under subheading 7202.30.0000 of the Harmonized Tariff Schedule of the United States (HTSUS). Some silicomanganese may also be classified under HTSUS subheading. This scope covers all silicomanganese, regardless of its tariff classification. Although the HTSUS subheadings are provided for convenience and U.S. Customs and Border Protection purposes, our written description of the scope remains dispositive.

The low-carbon silicomanganese excluded from this scope is a ferroalloy with the following chemical specifications: minimum 55 percent manganese, minimum 27 percent silicon, minimum 4 percent iron, maximum 0.10 percent phosphorus, maximum 0.10 percent carbon and maximum 0.05 percent sulfur. Low-carbon silicomanganese is used in the manufacture of stainless steel and special carbon steel grades, such as motor lamination-grade steel, requiring a very low carbon content. It is sometimes referred to as ferromanganese-silicon. Low-carbon silicomanganese is classifiable under HTSUS subheading 7202.99.8040.

Initiation of Changed Circumstances Review

Pursuant to section 751(b)(1) of the Tariff Act of 1930, as amended (the Act), when Commerce receives information concerning, or a request from an interested party for a review of, a final affirmative determination that resulted in an AD order, which shows changed circumstances sufficient to warrant a review of an order, Commerce shall conduct a changed circumstances review of the order.⁴ In accordance with 19 CFR 351.216(d), Commerce determines that the information submitted by NAVA, supporting its claim that it is successor-in-interest to NBVL, demonstrates changed circumstances sufficient to initiate a review of the Order.⁵

⁴ See 19 CFR 351.216(d).

⁵ See NAVA's CCR Request.

The information submitted by NAVA demonstrates that its request is based solely on a change in the name of the company from “Nava Bharat Ventures Limited” to “NAVA Limited,” approved by its board of directors on May 16, 2022.⁶ Moreover, the evidence submitted by NAVA demonstrates that it is still otherwise the same business entity as NBVL, with no changes made in the companies' structure, operations, key personnel, production facilities, suppliers, or customers as a result of the name change.⁷ Therefore, in accordance with the regulation referenced above, Commerce is initiating a CCR to determine whether NAVA is the successor-in-interest to NBVL.

⁶ Id. at 1-2.

⁷ Id. at 5-6.

Preliminary Results

Commerce is permitted by 19 CFR 351.221(c)(3)(ii) to combine the notice of initiation of a CCR and the preliminary results if Commerce concludes that expedited action is warranted. In this instance, because the record contains information necessary to make a preliminary finding, we find that expedited action is warranted and have combined the notice of initiation and the preliminary results.

Accordingly, pursuant to section 751(b) of the Act, we have conducted a successor-in-interest analysis in response to NAVA's request. In making a successor-in-interest determination in an AD CCR, Commerce examines several factors, including, but not limited to, changes in the following: (1) management and ownership; (2) production facilities; (3) supplier relationships; and (4) customer base.⁸ While no single factor or combination of factors will necessarily provide a dispositive indication of a successor-in-interest relationship, generally, Commerce will consider the new company to be the successor to the previous company if the new company's resulting operations are not materially dissimilar to that of its predecessor.⁹ Thus, if the evidence demonstrates that, with respect to the production and sales of the subject merchandise, the new company operates as essentially the same business entity as the former company, Commerce will assign the new company the cash deposit rate of its predecessor.¹⁰

⁸ See, e.g., Certain Frozen Warmwater Shrimp from India: Initiation and Preliminary Results of Antidumping Duty Changed Circumstances Review, 83 FR 37784 (August 2, 2018), unchanged in Certain Frozen Warmwater Shrimp from India: Notice of Final Results of Antidumping Duty Changed Circumstances Review, 83 FR 49909 (October 3, 2018).

⁹ Id.

¹⁰ See, e.g., Notice of Initiation and Preliminary Results of Antidumping Duty Changed Circumstances Review: Certain Frozen Warmwater Shrimp from India, 77 FR 64953 (October 24, 2012), unchanged in Final Results of Antidumping Duty Changed Circumstances Review: Certain Frozen Warmwater Shrimp from India, 77 FR 73619 (December 11, 2012); see also Notice of Initiation and Preliminary Results of Changed Circumstances Reviews: Certain Passenger Vehicle and Light Truck Tires from the People's Republic of China, 85 FR 5193 (January 29, 2020), unchanged in Certain Passenger Vehicle and Light Truck Tires from the People's Republic of China: Final Results of Changed Circumstances Reviews, 85 FR 14638 (March 13, 2020).

In its CCR request, NAVA provided evidence demonstrating that its operations are not materially dissimilar from those of NBVL. Based on the record, we preliminarily determine that NAVA is the successor-in-interest to NBVL, as the change in the business' name was not accompanied by significant changes to its management and ownership, production, facilities, supplier relationships, or customer base. Thus, we preliminarily determine that NAVA operates as essentially the same business entity as NBVL, NAVA is the successor-in-interest to NVBL, and NAVA should receive the same AD cash deposit rate with respect to subject merchandise as its predecessor, NVBL. For a complete discussion of the information that NAVA provided, and the complete successor-in-interest analysis, see the Preliminary Decision Memorandum.¹¹ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹¹ See Memorandum, “Silicomanganese from India: Initiation and Preliminary Results of Changed Circumstances Review,” dated concurrently with, and hereby adopted by, this notice (Preliminary Decision Memorandum).

Should our final results remain unchanged from these preliminary results, we will instruct U.S. Customs and Border Protection to assign entries of subject merchandise exported by NAVA the AD cash deposit rate applicable to NBVL. Commerce will issue its final results of the review in accordance with the time limits set forth in 19 CFR 351.216(e).

Public Comment

Any interested party may request a hearing within 14 days of publication of this notice, in accordance with 19 CFR 351.310(c).¹² In accordance with 19 CFR 351.309(c)(1)(ii), interested parties may submit case briefs not later than 14 days after the date of publication of this notice.¹³ Rebuttal briefs, limited to issues raised in the case briefs, may be filed not later than seven days after the case briefs.¹⁴ Parties who submit case briefs or rebuttal briefs in this CCR are requested to submit with each argument: (1) a statement of the issue; (2) a brief summary of the argument; and (3) a table of authorities.¹⁵ All submissions must be filed electronically using ACCESS.¹⁶ An electronically-filed document must be received successfully in its entirety by ACCESS, by 5:00 p.m. Eastern Time on the date it is due.¹⁷ Note that Commerce has temporarily modified certain requirements for serving documents containing business proprietary information, until further notice.¹⁸

¹² Commerce is exercising its discretion under 19 CFR 351.310(c) to alter the time limit for requesting a hearing.

¹³ Commerce is exercising its discretion under 19 CFR 351.309(c)(1)(ii) to alter the time limit for the filing of case briefs.

¹⁴ Commerce is exercising its discretion under 19 CFR 351.309(d)(1) to alter the time limit for the filing of rebuttal briefs.

¹⁵ See 19 CFR 351.309(c)(2) and (d)(2).

¹⁶ See generally 19 CFR 351.303.

¹⁷ See 19 CFR 351.303(b)

¹⁸ See Temporary Rule Modifying AD/CVD Service Requirements Due to COVID-19; Extension of Effective Period, 85 FR 41363 (July 10, 2020).

Unless extended, Commerce will issue the final results of this CCR in accordance with the time limits set forth in 19 CFR 351.216(e).

Notification to Interested Parties

We are issuing and publishing this initiation and preliminary results notice in accordance with sections 751(b)(1) and 777(i)(1) of the Act and 19 CFR 351.216 and 351.221(c)(3).

Dated: October 14, 2022.
Lisa W. Wang,
Assistant Secretary for Enforcement and Compliance.

Appendix

List of Topics Discussed in Preliminary Decision Memorandum

I. Summary

II. Background

III. Scope of the Order

IV. Initiation and Preliminary Results of the Changed Circumstances Review

V. Successor-in-Interest Determination

VI. Recommendation

[FR Doc. 2022-22873 Filed 10-20-22; 8:45 am]

BILLING CODE 3510-DS-P